DEPARTMENT OF TRANSPORTATION

Federal Aviation Administration

14 CFR Part 71

[Docket FAA 05-22665; Airspace Docket 05-ANM-13]

Proposed Amendment to Class E Airspace; Jackson, WY

AGENCY: Federal Aviation Administration (FAA), DOT.

ACTION: Notice of proposed rulemaking.

SUMMARY: This proposal would revise Class E airspace at Jackson, WY. Additional Class E airspace is necessary to accommodate aircraft using a new Localizer Performance with Vertical Guidance (LPV) approach procedure, with Lateral/Vertical Navigation (LNAV/VNAV) minimums. This action would improve the safety of Instrument Flight Rules (IFR) aircraft executing the new LPV approach procedure at Jackson Hole Airport, Jackson, WY.

DATES: Comments must be received by February 13, 2006.

ADDRESSES: Send comments on this proposal to the Docket Management System, U.S. Department of Transportation, Room Plaza 401, 400 Seventh Street, SW., Washington, DC 20590-0001. You must identify the docket number, FAA 05-22665; Airspace Docket 05-ANM-13, at the beginning of your comments. You may also submit comments through the Internet at http://dms.dot.gov. You may review the public docket containing the proposal, any comments received, and any final dispositions in person in the Docket Office between 9 a.m. and 5 p.m., Monday through Friday, except Federal holidays. The Docket Office (telephone number 1-800-647-5527) is on the plaza level of the Department of Transportation NASSIF Building at the above address.

An informal docket may also be examined during normal business hours at the Federal Aviation Administration, Air Traffic Organization, Western En Route and Oceanic Service Area Office, Airspace Branch, 1601 Lind Avenue, SW., Renton, WA 98055.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify Docket FAA 05-22665; Airspace Docket 05-ANM-13, and be submitted in triplicate to the address listed above. Commenters wishing the FAA to acknowledge receipt of their comments on this action must submit with those comments a self-addressed, stamped postcard with the following statement: Comments to Docket FAA 05-22665; Airspace Docket 05-ANM-13. The postcard will be date/time stamped and returned to the commenter.

Availability of NPRM

An electronic copy of this document may be downloaded through the Internet at http://dms.dot.gov. Recently published rulemaking documents can also be accessed through the FAA's Web pate at http://www.faa.gov or the Superintendent of Document's Web page at http://www.access.gpo.gov/nara.

Additionally, any person may obtain a copy of this notice by submitting a request to the Federal Aviation Administration, Air Traffic Organization, Western En Route and Oceanic Service Area Office, Airspace Branch, 1601 Lind Avenue, SW., Renton, WA 98055. Communications must identify both document numbers for this notice. Persons interested in being placed on a mailing list for future NPRMs should contact the FAA's Office of Rulemaking, 202-267-9677, to request a copy of Advisory Circular No. 11-2A, Notice of Proposed Rulemaking Distribution System, which describes the application procedures.

The Proposal

This action would amend Title 14 Code of Federal Regulations, part 71 (14 CFR part 71) by revising Class E airspace at Jackson Hole Airport, Jackson, WY. Additional Class E controlled airspace is necessary to accommodate aircraft using a new LPV approach procedure with LNAV/VNAV minimums. This airspace revision would improve the safety of IFR aircraft executing the new LPV approach procedure at Jackson Hole Airport, Jackson, WY. Controlled airspace is necessary where there is a requirement for IFR services, which include arrival, departure, and transitioning to/from the terminal or en route environment. Class E airspace designations are published in paragraph 6005 of FAA Order 7400.9N dated September 1, 2005, and effective September 15, 2005, which is incorporated by reference in 14 CFR 71.1. The Class E airspace designation listed in this document will be published subsequently in this order.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule would not have a significant economic impact on a substantial number of small entities under the criteria of the Regulatory Flexibility Act.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9N, Airspace Designations and Reporting Points, dated September 1, 2005, and effective September 15, 2005 is amended as follows:

Paragraph 6005 Class E airspace areas extending upward from 700 feet or more above the surface of the earth.

ANM WY E5 Jackson, WY [Revised]

Jackson Hole Airport, WY

(Lat. 43°36′23″ N., long. 110°44′17″ W.)

Jackson VOR/DME

(Lat. 43°36′30″ N., long. 110°44′05″ W.)

That airspace extending upward from 700 feet above the surface within a 4.3 mile radius of Jackson Hole Airport, and within 4.4 miles west and 8.3 miles east of the Jackson VOR/DME 200° radial extending from the VOR/DME to 24.5 miles south of the VOR/DME, and within 4.4 miles each side of the 20° radial from the Jackson VOR/DME extending to 17.8 miles; that airspace extending upward from 1,200 feet above the surface within 15.2 miles west and 18.7 miles east of the Jackson VOR/DME 20° radial extending from the VOR/DME to 44.6 miles north of the VOR/DME, and that airspace west of the Jackson VOR/DME bounded on the northwest by the southeast edge of V-520 extending to 15.2 miles in an arc counterclockwise to the northwest edge of V-465, and that airspace to the south of the Jackson VOR/DME bounded on the northwest by the southeast edge of V-465, on the east by the southwest edge of V-328, on the south by the north edge of V-4 and on the west by long. 112°00′00″ W., and that airspace east of the Jackson VOR/DME between the 52° radial and 156° radial extending to 33.1 miles; excluding that airspace within federal airways; Big Piney, WY; Rock Springs, WY; and Driggs, ID, Class E airspace areas.

* * * * *

Issued in Seattle, Washington, on December 7, 2005.
Raul C. Treviño,
Area Director, Western En Route and Oceanic Operations.

[FR Doc. 05-24535 Filed 12-27-05; 8:45 am]

BILLING CODE 4910-13-M